DEPARTMENT OF JUSTICE

Drug Enforcement Administration

Agency Information Collection Activities: Proposed Collection; Comments Requested

ACTION: 60-Day emergency notice of information collection under review: drug questionnaire.

The Department of Justice (DOJ), Drug Enforcement Administration (DEA), has submitted the following information collection request to the Office of Management and Budget (OMB) for review and clearance in accordance with emergency review procedures of the Paperwork Reduction Act of 1995. OMB approval has been requested by April 15, 2004. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until June 7, 2004.

During the first 60 days of this same review period, a regular review of this information collection is also being undertaken. All comments and suggestions, or questions regarding additional information, to include obtaining a copy of the proposed information collection instrument with instructions, should be directed to Senior Inspector Stephen G. Griswold, Drug Enforcement Administration, 2401 Jefferson Davis Highway, Alexandria, VA 22301 or facsimile (202) 307-8256.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information:

(1) Type of information collection: New collection.

(2) The title of the form/collection: Drug questionnaire.

(3) The agency form number, if any, and the applicable component of the department sponsoring the collection: Form Number: DEA Form 341. Drug Enforcement Administration, Department of Justice.

(4) Affected public who will be asked or required to respond, as well as a brief abstract: Primary: Applicants for Employment with the Drug Enforcement Administration. Other: None. The Drug Enforcement Administration has stated, as a matter of policy, that a past history of illegal drug use may be disqualifying for employment with the DEA. This form seeks, directly from applicants for positions at DEA, information pertaining to personal history of illegal drug use.

(5) An estimate of the total number of respondents and the amount of time estimated for an average respondent to respond/reply: It is estimated that 30,000 respondents will each take 5 minutes to complete the form.

(6) An estimate of the total public burden (in hours) associated with the collection: The estimated total annual public burden associated with this application is 2500 hours.

FOR FURTHER INFORMATION CONTACT: Brenda E. Dyer, Deputy Clearance Officer, United States Department of Justice, Justice Management Division, Policy and Planning Staff, Patrick Henry Building, Suite 1600, 601 D Street NW., Washington, DC 20530.

Dated: April 1, 2004.
Brenda E. Dyer,
Deputy Clearance Officer, PRA, Department of Justice.

[FR Doc. 04-7814 Filed 4-6-04; 8:45 am]

BILLING CODE 4410-09-P